DEPARTMENT OF THE INTERIOR

Bureau of Land Management

[NV-030-5700-EU; N-79995]

Notice of Intent To Prepare an Amendment to the Carson City Field Office Consolidated Resource Management Plan

AGENCY: Bureau of Land Management, Interior.

ACTION: Notice of intent.

SUMMARY: This document provides notice that the Bureau of Land Management (BLM) intends to prepare a Resource Management Plan (RMP) amendment to address offering the sale of public land within Mineral County, Nevada not currently identified for disposal.

DATES: All relevant public meetings will be announced through the local news media, newsletters, and the BLM Web site at http://www.nv.blm.gov/carson/ at least 15 days prior to the event. The minutes and list of attendees from each meeting will be available to the public and open for 30 days to any participant who wishes to clarify the views they expressed.

ADDRESSES: Comments should be addressed to Donald T. Hicks, Manager, Carson City Field Office, Bureau of Land Management, 5665 Morgan Mill Road, Carson City, NV 89701.

FOR FURTHER INFORMATION CONTACT: For further information and/or to have your name added to our mailing list, contact Jo Ann Hufnagle, Lead Realty Specialist at the Carson City Field Office, (775) 885-6000. Documents pertinent to this proposal may be examined at the Carson City Field Office.

SUPPLEMENTARY INFORMATION: The proposed RMP amendment and land sale involve approximately 450 acres of public land in the vicinity of the Denton-Rawhide Mine in Mineral County, Nevada. The purpose of a sale would be to consolidate lands within and surrounding the open pit mine area into private ownership for future post-mine development, including use of the area as a landfill. As part of the RMP amendment, an EA will be prepared to analyze designation of the public land for disposal and sale of the land. Comments will be accepted throughout the RMP amendment and EA process. Prior to a sale offer, a Notice of Realty Action will be prepared and published in accordance with 43 CFR 2711.1-2. The plan amendment will fulfill the needs and obligations set forth by the National Environmental Policy Act (NEPA), the Federal Land Policy and Management Act (FLPMA), and BLM management policies. Comments, including names and street addresses of respondents, will be available for public review at the Carson City Field Office during regular business hours 7:30 a.m. to 5 p.m. Monday through Friday, except holidays, and may be published as part of the EA. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

Donald T. Hicks,
Manager, Carson City Field Office.

[FR Doc. 05-20202 Filed 10-6-05; 8:45 am]

BILLING CODE 4310-HC-P